ENVIRONMENTAL PROTECTION AGENCY

[FRL-7051-7]

National Smelting and Refining Superfund Site/Atlanta, GA; Notice of Proposed Settlement

AGENCY: Environmental Protection Agency.

ACTION: Notice of proposed settlement.

SUMMARY: Under sections 104, 106(a), 107 and 122 of the Comprehensive Environmental Response, Compensation, and Liability Act (CERCLA), NL Industries, Inc. and Norfolk Southern Railway Company (Respondents) entered into an Administrative Order on Consent (AOC) with the Environmental Protection Agency (EPA), whereby the Respondents agreed to perform response activities at the National Smelting and Refining Superfund Site (Site) located in Atlanta, Georgia. Section VII of the AOC provides for the reimbursement of EPA's past and future response costs by the Respondents. Under the terms of the AOC, section VII is subject to section 122(i) of CERCLA, which requires EPA to publish notice of the proposed settlement in the Federal Register for a thirty (30) day public comment period. EPA will consider public comments on section VII of the AOC for thirty days. EPA may withhold consent to all or part of section VII of the AOC if comments received disclose facts or considerations which indicate that section VII of the AOC is inappropriate, improper, or inadequate.

Copies of the proposed settlement are available from: Ms. Paula V. Batchelor, U.S. Environmental Protection Agency, Region IV, CERCLA Program Services Branch, Waste Management Division, 61 Forsyth Street, S.W., Atlanta, Georgia 30303, (404) 562-8887.

Written comment may be submitted to Mr. Greg Armstrong at the above address within 30 days of the date of publication.

Dated: August 20, 2001.
Anita Davis, Acting Chief,
CERCLA Program Services Branch, Waste Management Division.

[FR Doc. 01-22743 Filed 9-10-01; 8:45 am]

BILLING CODE 6560-50-P